DEPARTMENT OF TRANSPORTATION

Federal Aviation Administration

Aerospace Fuel, Engine Oil, and Hydraulic Hose Assemblies

AGENCY: Federal Aviation Administration (FAA), DOT.

ACTION: Notice of availability and request for public comment.

SUMMARY: This notice announces the Federal Aviation Administration's (FAA) intent to cancel the following Technical Standard Orders (TSOs): -C42, Propeller Feathering Hose Assemblies; -C53c, Fuel and Engine Oil System Hose Assemblies; and -C75, Hydraulic Hose Assemblies. The intent is to combine the updated requirements of the aforementioned TSOs into TSO-C140, Aerospace Fuel, Engine Oil, and Hydraulic Hose Assemblies. The impact of cancelling these TSOs will not affect current design or production approvals for an existing TSO-C42, -C53c, or -C75 authorization (TSOA). However, modifications to TSO-C42, -C53c, and -C75 TSOAs will no longer be accepted after the effective cancellation date. Generally, we will not accept applications for the previous revisions after the cancellation date of these TSOs. We may do so, however, up to six months after publication of this cancellation notice if we know that work was being done against the prior minimum performance standard before the cancellations became effective. Articles approved under those cancelled TSOAs may continue to be produced under the provisions of their original approvals.

DATES: Comments must be received on or before May 13, 2016.

FOR FURTHER INFORMATION CONTACT: Jim Kabbara, AIR-133, Federal Aviation Administration, 950 L'Enfant Plaza, 5th floor, Washington, DC 20024. Telephone (202) 267-1612 or email at: jim.kabbara@faa.gov.

SUPPLEMENTARY INFORMATION:

Comments Invited

You are invited to comment on the proposed cancellation of the TSOs by submitting written data, views, or arguments to the above address. Comments received may be examined, both before and after the closing date at the above address, weekdays except federal holidays, between 8:30 a.m. and 4:30 p.m. The Director, Aircraft Certification Service, will consider all comments received on or before the closing date.

Background

A recent review of TSO-C140 revealed it contained all the updated requirements of TSOs -C42, -C53c, and -C75, each of which are in need of an update. As such, we believe that the proposed cancellation does not impose any new requirements and will have no burden on the aviation community.

Issued in Washington, DC.
Susan J.M. Cabler,
Acting Manager, Design, Manufacturing, & Airworthiness Division, Aircraft Certification Service.

[FR Doc. 2016-08421 Filed 4-12-16; 8:45 am]

BILLING CODE 4910-13-P